DEPARTMENT OF THE INTERIOR

National Park Service

[2031-A154-422]

Deer and Vegetation Management Plan/Environmental Impact Statement, Fire Island National Seashore, New York

AGENCY: National Park Service, Department of the Interior.

ACTION: Notice of Intent to prepare an Environmental Impact Statement for a Deer and Vegetation Management Plan, Fire Island National Seashore, New York.

SUMMARY: Pursuant to the National Environmental Policy Act of 1969, 42 U.S.C. 4332(2)(C), the National Park Service is preparing an Environmental Impact Statement (EIS) for a Deer and Vegetation Management Plan at Fire Island National Seashore, New York. The purpose of taking action at this time is to address issues associated with the abundance and distribution of white-tailed deer at Fire Island National Seashore (Seashore). The issues include impacts from deer on the natural and cultural resources of the Seashore as well as impacts resulting from deer-human interaction. Actions addressing these issues will be designed and undertaken in support of the long-term protection, preservation, and restoration of Seashore resources.

Information collected as part of research conducted at the Seashore has indicated the need for a management plan to address changes in deer abundance and deer behavior due to the presence of human food sources and habituation to the unthreatening presence of humans; adverse impacts on native vegetation resulting from current levels of deer browsing; and adverse impacts on natural and cultural resources at the William Floyd Estate resulting from current deer population levels.

DATES: The National Park Service will accept comments from the public through July 18, 2011.

ADDRESSES: Information will be available for public review and comment online at http://parkplanning.nps.gov/fiis, at Park Headquarters (120 Laurel St, Patchogue, NY 11772), the Fire Island Lighthouse, and the Wilderness Visitor Center.

FOR FURTHER INFORMATION CONTACT: Paula Valentine (631-687-4759) or Lindsay Ries (631-687-4768).

SUPPLEMENTARY INFORMATION: For 30 years, Seashore staff have been involved with issues linked to the deer population on Fire Island. Initially, concerns were focused around a noticeable increase in the number of deer within the communities of western Fire Island and the appearance of Lyme disease among island residents and park employees. Later, a re-evaluation of permanent sample plots established in 1967 in the Sunken Forest area of the Seashore documented the impacts of deer browsing on understory vegetation within a decade of the Seashore's establishment. As a result of these concerns, Seashore staff, along with academic and agency scientists, embarked on a series of investigations documenting and describing deer abundance and distribution across the island; ecology of Lyme disease and its host vectors including ticks, birds, and mammals; browsing impacts on vegetation; fertility control as a potential deer population management tool; community relations relative to garbage disposal, and inadvertent and intentional feeding and/or poisoning of deer; the role of disturbance on the regeneration capacity of the Sunken Forest and the likelihood of its future conservation; and the human dimensions of deer abundance. More recently, Seashore staff has turned their attention to the potential impacts of deer on native vegetation in other natural zones of the Seashore and the cultural landscape of the William Floyd Estate.

Information collected as part of this research has indicated the need for a management plan to address changes in deer abundance and deer behavior due to the presence of human food sources and habituation to the unthreatening presence of humans; adverse impacts on native vegetation resulting from current levels of deer browsing; and adverse impacts on natural and cultural resources at the William Floyd Estate resulting from current deer population levels.

A scoping newsletter will be prepared which identifies the issues and statements of purpose, need, and objectives identified to date during internal scoping meetings. Copies of that information and other updates may be obtained online at http://parkplanning.nps.gov/fiis or at the address and phone numbers listed above. If you wish to comment on the purpose, need, objectives, or on any other issues associated with the plan, you may submit your comments via the Internet at http://parkplanning.nps.gov/fiis and by mailing or hand-delivering comments to Fire Island National Seashore, Attn: Deer and Vegetation Management Plan, 120 Laurel St, Patchogue, NY 11772. Before including your address, phone number, e-mail address, or other personal identifying information in your comment, you should be aware that your entire comment—including your personal identifying information—may be made publicly available at any time. While you can ask us in your comment to withhold your personal identifying information from public review, we cannot guarantee that we will be able to do so.

Dennis R. Reidenbach,
Regional Director, Northeast Region, National Park Service.

[FR Doc. 2011-15064 Filed 6-16-11; 8:45 am]

BILLING CODE 4310-YV-P